DEPARTMENT OF TRANSPORTATION

Federal Aviation Administration

Agency Information Collection Activities: Requests for Comments; Clearance of Renewed Approval of Information Collection: Renewal, Rotorcraft External Load Operator Certificate Application

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on January 19, 2018. The collection involves the submission of application FAA Form 8710-4 for organizations wishing to conduct nonpassenger-carrying external-load operations for compensation or hire. The information to be collected will be used to and/or is necessary to evaluate the operators request to become or remain certified as Rotorcraft External-Load Operators.

DATES: Written comments should be submitted by May 29, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION:

OMB Control Number: 2120-0044.

Title: Rotorcraft External Load Operator Certificate Application.

Form Numbers: FAA Form 8710-4.

Type of Review: This is a renewal of an information collection.

Background: The Federal Register Notice with a 60-day comment period soliciting comments on the following collection of information was published on January 19, 2018 (83 FR 2866). Application for certificate issuance or renewal of a 14 CFR part 133 Rotorcraft External Load Operator Certificate. Application for an original certificate or renewal of a certificate issued under 14 CFR part 133 is made on a form, and in a manner, prescribed by the Administrator. The FAA form 8710-4 may be obtained from an FAA Flight Standards District Office. The completed application is sent to the district office that has jurisdiction over the area in which the applicant's home base of operation is located.

The information collected includes: Type of application, Operators name/DBAs, telephone number, mailing address, physical address of the principal base of operations, Chief pilot/designee name, airman certificate grade and number, rotorcraft make/model registration numbers to be used and load combinations requested.

Respondents: 357 active 14 CFR part 133 Certificate Holders.

Frequency: New applications as industry dictates, however, current 14 CFR part 133 certificate holders must renew every 24 months.

Estimated Average Burden per Response: Approximately 30 minutes per application.

Estimated Total Annual Burden: 89.25 hours per year for 14 CFR part 133 renewals.

Issued in Fort Worth on April 23, 2018.
Barbara Hall,
FAA Information Collection Clearance Officer, IT Enterprises Business Services Division, ASP-110.

[FR Doc. 2018-08966 Filed 4-26-18; 8:45 am]

BILLING CODE 4910-13-P